SMALL BUSINESS ADMINISTRATION

[Declaration of Disaster #P045]

Territory of Guam

As a result of the President's major disaster declaration for Public Assistance on July 29, 2004, the U.S. Small Business Administration is activating its disaster loan program only for private non-profit organizations that provide essential services of a governmental nature. I find that the Territory of Guam constitutes a disaster area due to damages caused by high winds, flooding, and mudslides as a result of Tropical Storm Tingting occurring on June 26-29, 2004. Applications for loans for physical damage as a result of this disaster may be filed until the close of business on September 27, 2004 at the address listed below or other locally announced locations:

U.S. Small Business Administration, Disaster Area 4 Office, P.O. Box 419004, Sacramento, CA 95841-9004.

The interest rates are:

| Percent
For physical damage:
Non-profit organizations without credit available elsewhere | 2.750
Non-profit organizations with credit available elsewhere | 4.875

The number assigned to this disaster for physical damage is P04506.

(Catalog of Federal Domestic Assistance Program Nos. 59008)

Dated: August 4, 2004.
Herbert L. Mitchell,
Associate Administrator for Disaster Assistance.

[FR Doc. 04-18318 Filed 8-10-04; 8:45 am]

BILLING CODE 8025-01-P